FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 27, 2022.

A. Federal Reserve Bank of San Francisco (Sebastian Astrada, Director, Applications) 101 Market Street, San Francisco, California 94105-1579:

1. Joaquin P.L.G. Cook, Chalan Pago-Ordot, Guam; to acquire control of voting shares of BankGuam Holding Company (BankGuam), by becoming trustee of the Voting Trust Agreement of BankGuam, which controls BankGuam, and thereby indirectly controls Bank of Guam, both of Hagatna, Guam, and with Martin D. Leon Guerrero, Martin Perez Leon Guerrero, William D. Leon Guerrero, Zita T. Leon Guerrero, the Jesus S. Leon Guerrero Family Trust, Eugenia A. Leon Guerrero, as trustee, Lourdes A. Leon Guerrero, the Felino B. Amistad and Fulgencia R. Amistad Trust, Felino A. Amistad, as trustee, Dominica LG Aguon, Pedro Perez Ada, Ada's Trust & Investments and the Ada's Family Trust, Pedro Perez Ada, Patricia Ann Perez Ada, and Teresa A. John, as co-executors and co-trustees, respectively, the John Family Living Trust, David James John and Teresa Ada John, as co-trustees, the Luis and Cynthia Camacho Living Trust, Cynthia Camacho, as trustee, all of Hagatna, Guam; Joe T. San Agustin, Dededo, Guam; Vincent Leon Guerrero, Mangilao, Guam; Patricia P. Ada, Tamuning, Guam; Agnes Leon Guerrero Winters and Tyler Reece Leon Guerrero Winters, both of Camarillo, California; Frances Perez Ada Purviance, El Dorado Hills, California; John S. San Agustin, San Francisco, California; Michelle M. Sablan, Santa Cruz, California; Carla Perez Ada, Sausalito, California; Maria Ada Bonnie, Minneapolis, Minnesota; the Ralph Guerrero Sablan and MaryAnne Gutierrez Sablan Living Trust, Hagatna, Guam, Mark J. Sablan, Hagatna, Guam, individually, and as co-trustee with Ralph Gregory Sablan, Agana Heights, Guam, individually, and as co-trustee; Michael S. Wu, Locust, New Jersey; James Wu, Shaker Heights, Ohio; and Rebecca S. Mann, Columbia, South Carolina; as members of Voting Trust Agreement of BankGuam, a group acting in concert, to retain voting shares of BankGuam Holding Company, and thereby indirectly retain voting shares of Bank of Guam, both of Hagatna, Guam.

Board of Governors of the Federal Reserve System, January 7, 2022.
Michele Taylor Fennell,
Deputy Associate Secretary of the Board.

[FR Doc. 2022-00439 Filed 1-11-22; 8:45 am]

BILLING CODE P